DEPARTMENT OF TRANSPORTATION

Federal Motor Carrier Safety Administration

[Docket No. FMCSA-2025-0093]

Hours of Service of Drivers: Application for Exemption; Northern Clearing, Inc.

AGENCY: Federal Motor Carrier Safety Administration (FMCSA), Department of Transportation (DOT).

ACTION: Notice of final disposition; denial of application for exemption.

SUMMARY: FMCSA announces its decision to deny the application from Northern Clearing, Inc., requesting an exemption from the hours-of-service (HOS) maximum driving time limits for drivers of property-carrying commercial motor vehicles (CMV). The company requested this exemption to support its work providing restoration, clean up, and re-construction services in areas effected by Hurricane Helene. FMCSA analyzed the application and public comments and determined that the exemption would not likely achieve a level of safety that is equivalent to, or greater than, the level that would be achieved absent such exemption.

FOR FURTHER INFORMATION CONTACT: Ms. Pearlie Robinson, FMCSA Driver and Carrier Operations Division, Office of Carrier, Driver and Vehicle Safety Standards; pearlie.robinson@dot.gov. If you have questions on viewing or submitting material to the docket, contact Docket Services via telephone at (202) 366-9826.

SUPPLEMENTARY INFORMATION:

I. Public Participation Viewing Comments and Documents

To view any documents mentioned as being available in the docket, go to https://www.regulations.gov/docket/FMCSA-2025-0093/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 395.3(a), a property carrying commercial motor vehicle (CMV) driver may not drive without first taking 10 consecutive hours off duty. Additionally, the driver may only drive a total of 11 hours during a period of 14 consecutive hours after coming on duty following 10 consecutive hours off duty. Under 49 CFR 395.3(a)(3)(ii), driving is not permitted if more than 8 hours of driving time have passed without at least a consecutive 30-minute interruption in driving status. The 30-minute break may be taken as off-duty, on-duty/not-driving, or sleeper-berth time, or any combination thereof. Under 49 CFR 395.3(b), no motor carrier shall permit or require a driver of a property-carrying CMV to drive, nor shall any driver drive a property-carrying CMV, regardless of the number of motor carriers using the driver's services, for any period after having been on duty 60 hours in any period of 7 consecutive days or having been on duty 70 hours in any period of 8 consecutive days.

The HOS regulations contain an exception for drivers of utility service vehicles in 49 CFR 391.1(n). Utility service vehicles are defined in 49 CFR 395.2 to include any CMV used to support the repair, maintenance, or operation of structures and physical facilities necessary for the delivery of public utility services.

Applicant's Request

Northern Clearing's application for exemption was described in detail in a Federal Register notice on May 12, 2025, (90 FR 20204) and will not be repeated, as the facts have not changed.

IV. Public Comments

The Agency received two comments. Michael Millard opposed granting the exemption and wrote, “Based on the applicants' CSA scores there are some issues with safety management; therefore, I am requesting the application from Part § 395 be denied.” Kelly Moore submitted comments that were unrelated to the exemption application.

V. FMCSA Decision

FMCSA evaluated Northern Clearing's application and public comments and denies the exemption request. The applicant wants relief from the HOS regulations to provide support for the restoration, clean-up, and re-construction of areas affected by Hurricane Helene. Although Northern Clearing stated its intent is to “mirror Utility Services Exemption requirements,” it did not explain why it should be treated the same as the utility service vehicle drivers or how its operations would likely achieve an equivalent level of safety with the applicable HOS rules. Utility service vehicles, as defined in the note to 49 U.S.C. 31136 and 49 CFR 395.2, are provided statutory relief from the HOS regulations, and Northern Clearing has not demonstrated that it would achieve the equivalent level of safety simply by comparing itself to such vehicles. Based on the application Northern Clearing submitted, FMCSA lacks information to conclude that the requested exemption would likely achieve a level of safety equivalent to, or greater than, the level achieved under current regulations.

The Agency issued an Emergency Declaration from October 4, 2024, to October 27, 2024, to address the immediate needs of the areas affected by Hurricane Helene. Though the emergency relief was extended for certain States, it expired for all affected areas by December 26, 2024. After the expiration of the declaration, motor carriers engaged in the long-term recovery of these communities are expected to comply with the HOS rules.

For the above reasons, the Northern Clearing's exemption application is denied.

Derek Barrs,
Administrator.

[FR Doc. 2025-22362 Filed 12-8-25; 8:45 am]

BILLING CODE 4910-EX-P